DEPARTMENT OF ENERGY

Federal Energy Regulatory Commission

[ Project No. 2503-147]

Duke Energy Carolinas, LLC; Notice of Meetings To Discuss Resource Issues Related to the Relicensing of the Keowee-Toxaway Hydroelectric Project

a. Dates and Times of Meetings:

Duke Energy Carolinas, LLC (Duke) Water Quantity and Operations Resource Committee: Thursday, October 13, 2011, 10 a.m. to 1 p.m.

Duke Stakeholder Team and Shoreline Management Resource Committee: Wednesday, October 26, 2011, 10 a.m. to 3 p.m.

b. Place: Duke Energy Carolina, LLC's—Wenwood Operations Center*, 425 Fairforest Way, Greenville, SC 29607.

* Registration is required. Please see item g. below.

c. FERC Contact: Stephen Bowler at (202) 505-6861 or stephen.bowler@ferc.gov.

d. Purpose of Meetings: Duke is holding regular meetings of its resource committees and stakeholder team as part of its consultation effort under the Integrated Licensing Process. Commission staff will attend the meetings (in person and by telephone) for the purpose of establishing an open dialogue regarding Commission procedures for addressing resource and settlement issues.

e. Discussion of Proposed Agendas:

Duke Energy Carolinas, LLC (Duke) Water Quantity and Operations Resource Committee: Operations models.

Duke Stakeholder Team and Shoreline Management Resource Committee: Summary of Commission Policy on Settlement Agreements; Presentation Regarding the Comparison of Historic Aerial Photography to More Recent Photography to Assess Erosion of the Islands in Lake Keowee.

g. All local, state, and federal agencies, Indian tribes, and other interested parties are invited to participate. Please e-mail Elana Kimbrell at ekimbrell@kearnswest.com to register to participate.

Dated: October 3, 2011,
Kimberly D. Bose,
Secretary.

[FR Doc. 2011-26119 Filed 10-7-11; 8:45 am]

BILLING CODE 6717-01-P